DEPARTMENT OF THE TREASURY

Office of Thrift Supervision

Submission for OMB Review; Comment Request

September 5, 2000.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, N.W., Washington, D.C. 20552.

DATES: Submit written comments on or before October 10, 2000.

OMB Number: 1550-0025.

Form Number: OTS Forms 1584, 1585, 1589.

Type of Review: Revision of a currently approved collection.

Title: Purchase of Branch Office(s) and/or Transfer of Assets/Liabilities.

Description: Information provided to OTS is evaluated to determine whether the proposed assumption of liabilities and/or transfer of assets transactions complies with applicable laws, regulations and policy, and will not have an adverse effect on the risk exposure to the insurance fund.

Respondents: Savings and Loan Associations and Savings Banks.

Estimated Number of Responses: 105.

Estimated Burden Hours Per Response: 1.3 hours.

Frequency of Response: Once per transaction.

Estimated Total Reporting Burden: 137 hours.

Clearance Officer: Ralph E. Maxwell, (202) 906-7740, Office of Thrift Supervision, 1700 Street, N.W., Washington, D.C. 20552.

OMB Reviewer: Alexander Hunt, (202) 395-7860, Office of Management and Budget, Room 10202, New Executive Office Building, Washington, D.C. 20503.

John E. Werner,
Director, Information & Management Services.

[FR Doc. 00-23146 Filed 9-7-00; 8:45 am]

BILLING CODE 6720-01-P